DEPARTMENT OF DEFENSE

48 CFR Parts 225 and 252

[DFARS Case 2002-D009]

Defense Federal Acquisition Regulation Supplement; Foreign Acquisition

Correction

In rule document 03-7531 beginning on page 15616 in the issue of Monday, March 31, 2003 make the following corrections:

225.1101 [Corrected]

1. On page 15626, in the third column, in 225.1101, in paragraph (2), in the last line. “unless' ” should read “unless-”.

252.225-7000 [Corrected]

2. On page 15634, in the first column, in 252.225-7000, after paragraph (c)(2), the next entry, “(Line Item Number Country of Origin)” should read “(Line Item Number)”.

[FR Doc. C3-7531 Filed 5-8-03; 8:45 am]

BILLING CODE 1505-01-D

DEPARTMENT OF HEALTH AND HUMAN SERVICES

Indian Health Service

Mental Health and Community Safety Initiative for American Indian and Alaska Native Children, Youth, and Families

Correction

In notice document 03-10884 beginning on page 23468 in the issue of Friday, May 2, 2003, make the following correction:

On page 23470, in the first column, under the heading Contacts for Assistance, in the second line from the bottom, “JDAVIS@HQE.GOV” should read, “JDAVIS@HQE.IHS.GOV”.

[FR Doc. C3-10884 Filed 5-8-03; 8:45 am]

BILLING CODE 1505-01-D

DEPARTMENT OF STATE

22 CFR Part 121

[Public Notice 4209]

RIN AB-60

Amendment to the International Traffic in Arms Regulations, United States Munitions List

Correction

In rule document 02-29595 beginning on page 70839 in the issue of Wednesday, November 27, 2002 make the following corrections:

§ 121.1 [Corrected]

1. On page 70841, in the third column, in § 121.1, in paragraph (a)(33), in the sixth line, “(250oC)” should read “(250°C)”

2. On the same page, in the same column, in the same section, in paragraph (b)(4), in the sixth line, “(210°C)” should read “(21°C)”.

3. On page 70843, in the third column, in the same section, in paragraph (a)(3)i), in the sixth line, “Bis(2-ch1oroethylthio)methane” should read “Bis(2-chloroethylthio)methane”.

4. On the same page, in the same column, in the same section, in the same paragraph, in the 10th line, “1,3-bis (2-ch1oroethylthio)-n-propane” should read “ 1,3-bis (2-chloroethylthio)-n-propane”.

5. On page 70844, in the third column, in the same section, in paragraph (m), in the fifth line, “artic1es” should read “articles”.

[FR Doc. C2-29595 Filed 5-8-03; 8:45 am]

BILLING CODE 1505-01-D